DEPARTMENT OF AGRICULTURE

Submission for OMB Review; Comment Request

September 21, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Importation of Clementines from Spain.

OMB Control Number: 0579-0203.

Summary of Collection: As authorized by the Plant Protection Act (7 U.S.C. 7701-7772) (PPA), the Secretary of Agriculture may prohibit or restrict the importation, entry, exportation, or movement in interstate commerce of any plant, plant product, biological control organism, noxious weed, means of conveyance, or other article if the Secretary determines that the prohibition or restriction is necessary to prevent a plant pest or noxious weed from being introduced into or disseminated within the United States. This authority has been delegated to the Animal and Plant Health Inspection Service (APHIS), which administers regulation to implement the PPA. The regulations in “Subpart—Fruits and Vegetables,” 7 CFR 319.56 through 319.56-8, prohibits or restrict the importation of fruits and vegetables into the United States from certain parts of the world to prevent the introduction and dissemination of plant pest, including fruit flies. Under the regulations, clementines from Spain are subject to certain conditions before entering the United States to ensure that exotic plant pest, such as the Mediterranean fruit fly, are not introduced into the United States.

Need and Use of the Information: APHIS will collect information to ensure that the cold treatment was successfully completed and also to ensure that no Mediterranean fruit fly are found in any of the shipment of clementines from Spain. Failure to collect this information would cripple APHIS’ ability to ensure that clementines from Spain are not carrying fruit flies.

Description of Respondents: Business or other for-profit; State, Local or Tribal Government.

Number of Respondents: 4,508.

Frequency of Responses: Recordkeeping; Reporting: On occasion.

Total Burden Hours: 1,645,156.

Ruth Brown,
Departmental Information Collection Clearance Officer.

[FR Doc. 05-19218 Filed 9-26-05; 8:45 am]

BILLING CODE 3410-34-P